DEPARTMENT OF THE INTERIOR

Bureau of Land Management

[NM-080-1430-EU; NMNM 104317]

Notice of Realty Action; Environmental Assessment for Noncompetitive Sale of Public Lands in Eddy County; Cancellation and Termination of Segregation

AGENCY: Bureau of Land Management, Interior.

ACTION: Cancellation and termination of segregation.

SUMMARY: This Notice cancels the Notice of Realty Action located in the second column, 65 FR 48251, publish August 7, 2000, as FR Doc. 00-19918. This Notice also terminates the segregation associated with the Notice of Realty Action.

DATES: Cancellation of the Notice of Realty Action and termination of the segregation is effective upon publication of this notice. The land will be open to entry at 8:00 am on October 30, 2000.

Dated: September 20, 2000.
Mary Jo Rugwell,
Acting Field Manager.

[FR Doc. 00-25028 Filed 9-28-00; 8:45 am]

BILLING CODE 4310-FB-M